DEPARTMENT OF ENERGY

Federal Energy Regulatory Commission

[Docket No. ES02-15-000]

Consolidated Edison Company of New York, Inc.; Notice of Filing

December 11, 2001.

Take notice that on November 30, 2001, Consolidated Edison Company of New York, Inc. (Con Edison of New York) filed an application for an order, pursuant to Section 204 of the Federal Power Act, authorizing Con Edison of New York during the period from the date of the order through December 31, 2003 to issue and sell unsecured evidences of indebtedness maturing not more than twelve months after their date of issue up to an amount not in excess of $1 billion at any one time outstanding.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before December 21, 2001 . Protests will be considered by the Commission to determine the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-31067 Filed 12-17-01; 8:45 am]

BILLING CODE 6717-01-P